DEPARTMENT OF ENERGY

Federal Energy Regulatory Commission

[Docket No. RP00-336-002; RP01-484-000; RP01-486-000; RP00-139-000]

El Paso Natural Gas Co.; Aera Energy, LLC, et al., Complainants v. El Paso Natural Gas Co., Respondent; Texas, New Mexico and Arizona Shippers, Complainants v. El Paso Natural Gas Co., Respondent; KN Marketing, L.P., Complainant v. El Paso Natural Gas Co., Respondent; Notice of Public Conference

March 21, 2002.

At the March 13, 2002 Commission meeting, the Commission directed that a public conference be held to take comments on Staff's recommended basis for assigning capacity and receipt points on the El Paso Natural Gas Company system (El Paso). A description of Staff's proposal is posted on the Commission's website at http://www.ferc.gov/calendar/commissionmeetings/discussion_papers.htm

Take notice that on April 16, 2002 at 10:00 a.m., in a room to be designated at the offices of the Federal Energy Regulatory Commission, 888 First Street, NE., Washington, DC 20426, the Commission Staff will hold a public conference to receive comments on Staff's capacity allocation proposal. The conference will consist of short presentations by panels of interested parties, including full requirements shippers, contract demand shippers, state interests, and El Paso. Persons interested in participating in the panels should indicate their interest by March 28, 2002 by a letter addressed to the Secretary, Federal Energy Regulatory Commission, 888 First Street, NE., Washington, DC 20426, and should refer to Docket RP00-336-002, et al. Each request to participate must include a contact person, telephone number and E-mail address. Comments addressing capacity allocation issues may also be filed on April 16, 2002.

Every effort will be made to accommodate requests to make presentations, but depending on the number of requests received, a limit may have to be placed on the number of participants or the time for presentations. To provide for a more productive conference, interested persons should coordinate their efforts and choose one spokesperson to make a statement on behalf of a group where interests coincide. Upon receipt of these requests, a subsequent notice of the conference presentation schedule will be issued.

The conference will be transcribed, so that those not attending can review the proceedings. Those interested in obtaining transcripts of the proceedings should contact Ace Federal Reporters at (202) 347-3700.

Linwood A. Watson, Jr.,
Deputy Secretary.

[FR Doc. 02-7310 Filed 3-26-02; 8:45 am]

BILLING CODE 6717-01-P